DEPARTMENT OF COMMERCE

International Trade Administration

A-580-836, C-580-837

Certain Cut-to-Length Carbon-Quality Steel Plate Products From the Republic of Korea: Extension of Time Limit for Preliminary Results of Antidumping Duty Administrative Review and Countervailing Duty Administrative Review

AGENCY: Import Administration, International Trade Administration, Department of Commerce.

EFFECTIVE DATE: November 6, 2007.

FOR FURTHER INFORMATION CONTACT: Yang Jin Chun or Minoo Hatten at (202) 482-5760 and (202) 482-1690, respectively (antidumping), and Jolanta Lawska or Eric Greynolds at (202) 482-8362 and (202) 482-6071, respectively (countervailing duty), Import Administration, International Trade Administration, U.S. Department of Commerce, 14th Street and Constitution Avenue, NW, Washington, DC 20230.

SUPPLEMENTARY INFORMATION:

Background

At the request of interested parties, the Department of Commerce (the Department) initiated an administrative review of the antidumping duty order on certain cut-to-length carbon-quality steel plate products from the Republic of Korea for the period February 1, 2006, through January 31, 2007. See Initiation of Antidumping and Countervailing Duty Administrative Reviews, 72 FR 14516 (March 28, 2007) (March Initiation Notice), for Dongkuk Steel Mill Co., Ltd. (DSM), and Initiation of Antidumping and Countervailing Duty Administrative Reviews, 72 FR 20986 (April 27, 2007), for DSEC Co., Ltd., a subsidiary of Daewoo Shipbuilding & Marine Engineering (DSEC), and Tae Chang Steel Co., Ltd. (TC Steel). The Department initiated an administrative review of the countervailing duty order on certain cut-to-length carbon-quality steel plate products from the Republic of Korea for the period January 1, 2006, through December 31, 2006. See March Initiation Notice for DSM, DSEC, and TC Steel. We rescinded the review of TC Steel. See Certain Cut-to-Length Carbon-Quality Steel Plate from the Republic of Korea: Notice of Partial Rescission of Countervailing Duty Administrative Review, 72 FR 36962 (July 6, 2007). The preliminary results of both reviews are currently due no later than October 31, 2007.

Extension of Time Limit for Preliminary Results

Section 751(a)(3)(A) of the Tariff Act of 1930, as amended (the Act), requires the Department to make a preliminary determination within 245 days after the last day of the anniversary month of an order for which a review is requested and a final determination within 120 days after the date on which the preliminary determination is published. If it is not practicable to complete the review within these time periods, section 751(a)(3)(A) of the Act allows the Department to extend the time limit for the preliminary determination to a maximum of 365 days after the last day of the anniversary month. See also 19 CFR 351.213(h).

We determine that it is not practicable to complete the preliminary results of these reviews by the current deadline of October 31, 2007. Specifically, for the antidumping review, there are a number of complex factual issues such as one respondent's corporate affiliations, whether certain of its sales are outside the ordinary course of trade, and selection of an adverse facts-available rate for an uncooperative respondent which affect the calculations for the preliminary results. For the countervailing duty review, we need to resolve a question concerning shipments by one of the respondents. Therefore, we are extending the time period for issuing the preliminary results of these reviews by 15 days until November 15, 2007.

This notice is published in accordance with sections 751(a)(3)(A) and 777(i)(1) of the Act and 19 CFR 351.213(h)(2).

Dated: October 31, 2007.
Stephen J. Claeys,
Deputy Assistant Secretary for Import Administration.

[FR Doc. E7-21802 Filed 11-5-07; 8:45 am]

BILLING CODE 3510-DS-S